DEPARTMENT OF COMMERCE

National Oceanic and Atmospheric Administration

RIN 0648-XF704

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 127th Scientific and Statistical Committee (SSC) meeting, American Samoa Archipelago Fishery Ecosystem Plan Advisory Panel (AP), American Samoa Regional Ecosystem Advisory Committee (REAC), Executive and Budget Standing Committee, Pelagic and International Standing Committee and its 171st Council meeting to take actions on fishery management issues in the Western Pacific Region.

DATES: The meetings will be held between October 10 and October 19, 2017. For specific times and agendas, see SUPPLEMENTARY INFORMATION. All times listed are local island times.

ADDRESSES: The 127th SSC will be held at the Aqua Kauai Beach Hotel, 4331 Kauai Beach Drive, Lihue, phone: (808) 245-1955. The AP and Executive and Budget Standing Committee Pelagic and International Standing Committee will be held at Sadie's by the Sea, Utulei Beach, Route 1, Pago Pago, American Samoa, phone: (684) 633-5900. The REAC, Pelagic and International Standing Committee, and 171st Council meeting will be held at Governor H. Rex Lee Auditorium (Fale Laumei), Utulei, American Samoa, phone: (684) 633-5155.

FOR FURTHER INFORMATION: Contact Kitty M. Simonds, Executive Director, Western Pacific Fishery Management Council; phone: (808) 522-8220.

SUPPLEMENTARY INFORMATION: The 127th SSC meeting will be held between 8:30 a.m. and 5 p.m. on October 10-12, 2017. The AP will be held between 8:30 a.m. and 4:30 p.m. on October 14, 2017. The REAC will be held between 8:30 a.m. and 4 p.m. on October 16, 2017. The Executive and Budget Standing Committee will be held between 7:30 a.m. and 9 a.m. on October 17, 2017. The Pelagic and International Standing Committee will be held between 9:30 a.m. and noon on October 17, 2017. The 171st Council Meeting will be held on October 17, 2017 between 1 p.m. and 5 p.m. with a Public Hearing between 6 p.m. and 8 p.m.; on October 18, 2017 between 8:30 a.m. and 5 p.m. with a Fishers Forum between 6 p.m. and 9 p.m.; and on October 19, 2017 between 8:30 p.m. and 3 p.m.

Agenda items noted as “Final Action Items” refer to actions that result in Council transmittal of a proposed fishery management plan, proposed plan amendment, or proposed regulations to the U.S. Secretary of Commerce, under Sections 304 or 305 of the Magnuson-Stevens Fishery Conservation and Management Act. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 127th SSC Meeting

Tuesday, October 10, 2017, 8:30 a.m. to 5 p.m.

1. Introductions

2. Approval of Draft Agenda and Assignment of Rapporteurs

3. Status of the 126th SSC Meeting Recommendations

4. Report from the Pacific Islands Fisheries Science Center (PIFSC) Director

5. Insular Fisheries

A. Alternatives for Aquaculture Management (Initial Action Item)

B. Main Hawaiian Islands Deep 7 Bottomfish Fishery

1. Report on outcomes from the Bottomfish Commercial Fishery Data Workshops

2. Report on relative abundance estimation from the 2016 bottomfish fishery-independent survey

C. Evaluating Management Unit Species in need of conservation and management in the American Samoa, Marianas, and Hawaii Fishery Ecosystem Plans

1. Final Results of the Ecosystem Component Analysis

2. Ecosystem Component Expert Working Group Report

3. Options for Designating Management Unit Species Into Ecosystem Components (Initial Action Item)

D. Hawaii Coral Reef MUS Acceptable Biological Catch (ABC)

1. SSC Working Group Report on the Best Scientific Information Available Evaluation for the 27 Hawaii Coral Reef Fish Species

2. P* Working Group Report

3. 2018 ABC Specification of Hawaii Coral Reef MUS (Final Action Item)

E. Precious Corals Management Issues

1. Refining Precious Corals Essential Fish Habitat

2. Gold Coral Moratorium (Initial Action Item)

F. Public Comment

G. SSC Discussion and Recommendations

Wednesday, October 11, 2017, 8:30 a.m. to 5 p.m.

Guest Speaker: Molly Lutcavage “Tagging of pelagic species in Hawaii”

6. Pelagic Fisheries

A. Hawaii & American Samoa longline fisheries reports

B. American Samoa Large Vessel Prohibited Area (LVPA) (Initial Action Item)

C. American Samoa Longline Permit Modifications (Final Action Item)

D. Considerations for the Annual Limits on Sea Turtle Interactions in the Hawaii-based Shallow-set Longline Fishery (Initial Action Item)

E. International Fisheries

1. Stock Assessments

a. WCPO Bigeye Tuna

b. WCPO Yellowfin Tuna

c. North Pacific Blue Shark

d. North Pacific Albacore

e. Southwest Pacific Swordfish

2. Inter-American Tropical Tuna Commission (IATTC) 92nd meeting

3. Western & Central Pacific Fisheries Commission (WCPFC)

a. Science Committee

b. Intersessional Meeting on Tropical Tuna Measure

c. Northern Committee

d. Technical and Compliance Committee

e. Permanent Advisory Committee issues

f. US Proposals for WCPFC 14th Regular Meeting

4. North Pacific Fisheries Commission (NFPC)

E. Public Comment

F. SSC Discussion and Action

7. Protected Species

A. Update on the 2017 Hawaiian Islands Cetacean and Ecosystem Assessment Survey

B. Updates on Endangered Species Act (ESA) and Marine Mammal Protection Act (MMPA) Actions

C. Public Comment

D. SSC Discussion and Recommendations

Thursday, October 12, 2017, 8:30 a.m. to 5 p.m.

8. Other Business

A. 128th SSC Meeting

B. Update on Presidential Executive Orders on Monuments, Sanctuaries and Energy

C. Social Science Planning Committee Strategic Plan and Priorities

D. Updates on the status of the SSC plan

9. Summary of SSC Recommendations to the Council

Agenda for Advisory Panel Meeting

Saturday, October 14, 2017, 8:30 a.m. to 4:30 p.m.

1. Welcome and Introductions

2. Training on Climate and Fisheries

3. Review of American Samoa Fishery Ecosystem Plan Regulations

4. Additional AP Discussion on Council Action Items

A. American Samoa LVPA

B. American Samoa Longline Permit Modifications

C. Aquaculture Management

D. Ecosystem Component Options

5. Public Comment

6. Discussion and Recommendations

7. Other Business

Agenda for the Regional Ecosystem Advisory Committee Meeting

Monday, October 16, 2017, 8:30 a.m. to 4 p.m.

1. Welcome and Introductions

2. Essential Fish Habitat

A. Update on Habitat Program

B. EFH Levels of Information

C. Review of Non-Fishing Impacts to EFH

3. Action Items for the American Samoa FEP

A. Aquaculture Management

B. Gold Coral Moratorium

4. Public Comment

5. Other Business

6. REAC Discussion and Recommendations

7. Training on Climate and Fisheries

Agenda for Executive and Budget Standing Committee

Tuesday, October 17, 2017, 7:30 a.m. to 9 a.m.

1. Administrative Report

2. Financial Report

3. Meetings and Workshops

4. Council Family Changes

5. Other Issues

A. Election of Officers

6. Public Comment

7. Discussion and Recommendations

Agenda for the Pelagic and International Standing Committee

Tuesday, October 17, 2017, 9:30 a.m. to Noon

A. American Samoa Large Vessel Prohibited Area (Initial Action Item)

B. American Samoa Longline Permit Modifications (Final Action Item)

C. Considerations for the Annual Limits on Sea Turtle Interactions in the Hawaii-based Shallow-set Longline Fishery (Initial Action Item)

D. International Fisheries

1. IATTC

2. US Proposals for WCPFC 14

E. Advisory Group Report and Recommendations

1. Advisory Panel

2. American Samoa Regional Ecosystem Advisory Committee

3. Scientific & Statistical Committee

F. Public Comment

G. Council Discussion and Action

Agenda for 171st Council Meeting

Tuesday, October 17, 2017, 1 p.m. to 5 p.m.

1. Welcome and Introductions

2. Oath of Office

3. Approval of the 171st Agenda

4. Approval of the 170th Meeting Minutes

5. Executive Director's Report

6. Agency Reports

A. National Marine Fisheries Service

1. Pacific Islands Regional Office

a. Status of Monuments and Sanctuaries Review

b. Report on Executive Orders (EOs) 13771 and 13777 requiring Regulatory Reform

c. Report on Saltonstall-Kennedy 2018 Request for Proposals

2. Pacific Islands Fisheries Science Center

B. NOAA Office of General Counsel, Pacific Islands Section

C. U.S. State Department

D. U.S. Fish and Wildlife Service

1. Status of Monuments Review

E. Enforcement

1. U.S. Coast Guard

2. NOAA Office of Law Enforcement

3. NOAA Office of General Counsel, Enforcement Section

F. Public Comment

G. Council Discussion and Action

7. American Samoa Archipelago

A. Motu Lipoti

B. Fono Report

C. Enforcement Issues

D. Community Activities and Issues

1. Report on the Governor's Fisheries Task Force Initiatives

2. Fisheries Development

a. Update on SSBCI funding for Working Alia Vessels and Local Fishery Business Development Initiatives

3. Fisheries Disaster Relief

E. Education and Outreach Initiatives

F. Advisory Group Report and Recommendations

1. Advisory Panel

2. Regional Ecosystem Advisory Committee

3. Scientific & Statistical Committee

G. Public Comment

H. Council Discussion and Action

Tuesday, October 17, 2017, 6 p.m. to 8 p.m. Public Hearing

Agenda

Introductions

American Samoa Large Vessel Prohibited Area (Initial Action Item)

American Samoa Longline Permit Modifications (Final Action Item)

Public Discussion and Comments

Wednesday, October 18, 2017, 8:30 a.m. to 5 p.m.

8. Pelagic & International Fisheries

A. Hawaii & American Samoa Longline Fisheries Reports

B. American Samoa Large Vessel Prohibited Area (Initial Action Item)

C. American Samoa Longline Permit Modifications (Final Action Item)

D. Considerations for the Annual Limits on Sea Turtle Interactions in the Hawaii-based Shallow-set Longline Fishery (Initial Action Item)

E. International Fisheries

1. IATTC

2. WCPFC

a. Science Committee Meeting

b. Intersessional Meeting on Tropical Tuna Measures

c. Northern Committee Meeting

d. Technical and Compliance Committee Meeting

e. Permanent Advisory Committee Issues

f. U.S. Proposals for WCPFC 14

3. North Pacific Fisheries Commission Meeting

4. South Pacific Regional Fisheries Management Organization

F. Advisory Group Report and Recommendations

1. Advisory Panel

2. American Samoa Regional Ecosystem Advisory Committee

3. Scientific & Statistical Committee

G. Standing Committee Recommendations

H. Public Comment

I. Council Discussion and Action

9. Protected Species

A. Updates on Endangered Species Act

1. Turtles

2. Corals

3. Other Actions

B. Advisory Group Report and Recommendations

1. Advisory Panel

2. Scientific & Statistical Committee

C. Public Comment

D. Council Discussion and Action

10. Program Planning and Research

A. Alternatives for Aquaculture Management (Initial Action Item)

B. Options for Designating Management Unit Species Into Ecosystem Components (Initial Action Item)

C. Precious Corals Management Issues

1. Refining Precious Coral Essential Fish Habitat

2. Gold Coral Moratorium (Initial Action Item)

D. Territory Science Initiative Project Updates

E. Report on Coral Reef Regulation Review

F. Social Science Planning Committee Strategic Plan and Priorities

G. Report on the Climate Change Training Workshop

H. Regional, National and International Outreach & Education

I. Advisory Group Report and Recommendations

1. Advisory Panel

2. Regional Ecosystem Advisory Committee

3. Scientific & Statistical Committee

J. Standing Committee Recommendations

K. Public Comment

L. Council Discussion and Action

11. Hawaii Archipelago & PRIA

A. Moku Pepa

B. Legislative Report

C. Enforcement Issues

D. Fishing Year 2018 Annual Catch Limit Specification for the Main Hawaiian Island Coral Reef Fish (Final Action Item)

E. Education and Outreach Initiatives

F. Advisory Group Report and Recommendations

1. Advisory Panel

2. Scientific & Statistical Committee

G. Public Comment

H. Council Discussion and Action

12. Public Comment on Non-agenda Items

Wednesday, October 18, 2017, 6 p.m. to 9 p.m.

Fishers Forum—Fishing: Food. Life. Future.

Thursday, October 19, 2017, 8:30 a.m. to 3 p.m.

13. Mariana Archipelago

A. Guam

1. Isla Informe

2. Legislative Report

3. Enforcement Issues

4. Community Activities and Issues

a. Report on Indigenous Fishing Rights Initiatives

b. Report on Malesso CBMP

c. Report on the Yigo CBMP

5. Education and Outreach Initiatives

B. Commonwealth of Northern Mariana Islands

1. Arongol Falú

2. Legislative Report

3. Enforcement Issues

4. Community Activities and Issues

a. Report on Northern Islands CBMP

5. Education and Outreach Initiatives

C. Advisory Group Report and Recommendations

1. Advisory Panel

2. Scientific & Statistical Committee

D. Public Comment

E. Council Discussion and Action

13. Administrative Matters

A. Financial Reports

B. Administrative Reports

C. Council Family Changes

1. Education Committee

D. Meetings and Workshops

E. Other Business

F. Standing Committee Recommendations

G. Public Comment

H. Council Discussion and Action

14. Election of Officers

15. Other Business

Non-emergency issues not contained in this agenda may come before the Council for discussion and formal Council action during its 171st meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: September 19, 2017.
Tracey L. Thompson,
Acting Deputy Director, Office of Sustainable Fisheries, National Marine Fisheries Service.

[FR Doc. 2017-20280 Filed 9-21-17; 8:45 am]

BILLING CODE 3510-22-P